DEPARTMENT OF TRANSPORTATION

Office of the Secretary

[Docket No. DOT-OST-2018-0190]

Aviation Consumer Protection Advisory Committee Matters; Subcommittee on In-Flight Sexual Misconduct

AGENCY: Office of the Secretary (“OST”), Department of Transportation (“DOT”).

ACTION: Notice of rescheduled first meeting of the Aviation Consumer Protection Advisory Committee.

SUMMARY: The U.S. Department of Transportation has rescheduled the previously announced January 16, 2019, meeting of the Aviation Consumer Protection Advisory Committee (“ACPAC” or “Committee”). The new date for the first meeting of the reestablished ACPAC is April 4, 2019. The meeting will be held in the Media Center (located on the lobby level of the West Building) at the U.S. Department of Transportation Headquarters, 1200 New Jersey Ave. SE, Washington, DC 20590. Three topics will be discussed at that meeting—establishment of the National In-Flight Sexual Misconduct Task Force (“Task Force”) (including the tasks to be carried out by the Task Force); transparency of airline ancillary service fees; and involuntary changes to travel itineraries.

DATES: The first meeting of the reestablished ACPAC will be held on April 4, 2019, from 9:00 a.m. to 5:00 p.m. Eastern Time.

FOR FURTHER INFORMATION CONTACT: To register to attend the meeting, please contact Zeenat Iqbal, Senior Attorney, Office of Aviation Enforcement and Proceedings, by email at zeenat.iqbal@dot.gov, or by telephone at 202-366-9893. Attendance is open to the public up to the room's capacity of 100 attendees. Since space is limited and access to the DOT headquarters building is controlled for security purposes, any member of the public who plans to attend this meeting must notify the registration contact identified no later than Wednesday, March 27, 2019.

SUPPLEMENTARY INFORMATION:

Background

On November 23, 2018, the Department issued a Federal Register notice indicating that the Department had reconstituted the Aviation Consumer Protection Advisory Committee, formerly known as the Advisory Committee on Aviation Consumer Protection, as a federal advisory committee. The FAA Reauthorization Act of 2018 (“2018 FAA Act”), signed by President Trump on October 5, 2018, extended the authorization for the ACPAC from September 30, 2018, to September 30, 2023. The Department has appointed new members to the ACPAC, and established the Task Force as an ACPAC subcommittee. The Department had also announced that the first meeting of the reestablished ACPAC would take place on January 16, 2019. See 83 FR 59447. Due to a lapse in funding for the Department, that meeting was canceled.

The rescheduled first meeting of the reestablished ACPAC will be held on April 4, 2019, from 9:00 a.m. to 5:00 p.m. Eastern Time. Additionally, DOT will stream the event live on the internet and provide a link to the recorded webcast for future viewing at https://www.transportation.gov/airconsumer/ACPAC.

During the first meeting, there will be a discussion of three topics: (1) The duties of the Task Force members; (2) the transparency of airline ancillary service fees; and (3) and involuntary changes to itineraries. The Joint Explanatory Statement of the 2018 Consolidated Appropriations Act requests that the Department work in collaboration with industry, consumers and other stakeholders to establish guidelines on transparency of airline ancillary fees. In addition, the 2018 FAA Act mandates that the Department review and make recommendations with regard to air carriers' handling of involuntary changes to passengers' travel itineraries, and that the Department may consult with the Committee for this purpose. Accordingly, the Committee will discuss these issues during the meeting.

Members of the public may present written comments at any time. The docket number referenced above (DOT-OST-2018-0190) has been established for committee documents including any written comments that may be filed. At the discretion of the Chairperson and time permitting, after completion of the planned agenda, individual members of the public may provide oral comments. Any oral comments presented must be limited to the objectives of the committee and will be limited to five (5) minutes per person. Individual members of the public who wish to present oral comments must notify the Department of Transportation contact noted above via email that they wish to attend and present oral comments no later than Wednesday, March 27, 2019.

Persons with a disability who plan to attend the meeting and require special accommodations, such as an interpreter for the hearing impaired, should notify the registration contact noted above no later than Wednesday, March 27, 2019.

Viewing Documents

You may view any documents mentioned in this notice as being available in the docket at https://www.regulations.gov. After entering the docket number (DOT-OST-2018-0190), click the link to “Open Docket Folder” and choose the document to review. If you do not have access to the internet, you may view the docket online by visiting the Docket Management Facility in Room W12-140 on the ground floor of the DOT West Building, 1200 New Jersey Avenue SE, Washington, DC 20590, between 9 a.m. and 5 p.m., E.T., Monday through Friday, except Federal holidays.

Issued in Washington, DC, on March 12, 2019.
Steven G. Bradbury,
General Counsel.

[FR Doc. 2019-04991 Filed 3-18-19; 8:45 am]

BILLING CODE 4910-9X-P